DEPARTMENT OF HEALTH AND HUMAN SERVICES

Agency for Healthcare Research and Quality

Study Section Meetings—Change of Location

With this notice, the Agency for Healthcare Research and Quality informs the public of the change of location for two meetings. The original notice of these meetings was published in the Federal Register on January 7, 2003, Volume 68, Number 4, Page 785.

Below are the change of location of two meetings highlighted in bold.

• Name of Subcommittee: Health Systems Research.

Date: February 24-25, 2003, (Open from 6 p.m. to 6:15 p.m. on February 24 and closed for remainder of the meeting).

Place: AT-Doubletree Hotel (for both days), 1750 Rockville Pike, Conference Room TBD, Rockville, Maryland 20852.

• Name of Subcommittee: Health Care Quality and Effectiveness Research.

Date: February 26-27, 2003, (Open from 7 p.m. to 7:15 p.m. on February 26 and closed for remainder of the meeting).

Place: AT-Doubletree Hotel (for both days), 1750 Rockville Pike, Conference Room TBD, Rockville, Maryland 20852.

Agenda items for these meetings are subject to change as priorities dictate.

Dated: January 17, 2003.
Carolyn M. Clancy,
Acting Director.

[FR Doc. 03-1912 Filed 1-27-03; 8:45 am]

BILLING CODE 4160-90-M